DEPARTMENT OF TRANSPORTATION

Federal Aviation Administration

14 CFR Part 39

[Docket No. 2003-NM-162-AD; Amendment 39-13710; AD 2004-14-01]

RIN 2120-AA64

Airworthiness Directives; Fokker Model F.28 Mark 0070 and 0100 Series Airplanes

AGENCY: Federal Aviation Administration, DOT.

ACTION: Final rule.

SUMMARY: This amendment supersedes an existing airworthiness directive (AD), applicable to certain Fokker Model F.28 Mark 0100 series airplanes, that currently requires repetitive inspections of certain main landing gear (MLG) main fittings to detect forging defects, and rework of the main fittings if necessary. This amendment requires either replacement of each MLG with a MLG that has main fittings that have been inspected and reworked, or various one-time inspections of the main fittings and rework if necessary. Either of these actions constitutes terminating action for the repetitive inspections. This action also revises the applicability by adding airplanes. The actions specified by this AD are intended to detect forging defects of the MLG main fittings, which could lead to cracking and result in significant structural damage to the airplane and possible injury to the occupants. This action is intended to address the identified unsafe condition.

DATES: Effective August 13, 2004.

The incorporation by reference of certain publications listed in the regulations is approved by the Director of the Federal Register as of August 13, 2004.

The incorporation by reference of a certain other publication, as listed in the regulations, was approved previously by the Director of the Federal Register as of December 20, 2001 (66 FR 63159, December 5, 2001).

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) by superseding AD 2001-24-10, amendment 39-12527 (66 FR 63159, December 5, 2001), which is applicable to certain Fokker Model F.28 Mark 0100 series airplanes, was published in the Federal Register on March 17, 2004 (69 FR 12582). The action proposed to continue to require either replacement of each MLG with a MLG that has main fittings that have been inspected and reworked, or various one-time inspections of the main fittings and rework if necessary. Either of those actions would constitute terminating action for the repetitive inspections. The action also proposed to revise the applicability by adding airplanes.

Comments

Interested persons have been afforded an opportunity to participate in the making of this amendment. Due consideration has been given to the comments received.

Support for the Proposed AD

The Air Transport Association of America, on behalf of its members, generally supports the intent of the proposed AD.

Request to Include an Additional Terminating Action

The commenter, an operator, notes that its fleet of Fokker Model F.28 Mark 0100 series airplanes is not affected by the proposed AD. The commenter suggests adding an additional terminating action to paragraph (f) of the proposed AD to allow the installation of Menasco main landing gear (MLG) main fittings made of steel, in accordance with Fokker Service Bulletin F100-32-090.

The FAA acknowledges the commenter's request, but the unsafe condition addressed in this AD pertains to cracking associated with Messier-Dowty MLG main fittings as called out in the applicability statement of this AD. This AD is applicable to airplanes equipped with specific Messier-Dowty MLG and main fitting sub-assembly part numbers. This AD is not applicable to airplanes with MLGs and fittings manufactured by Menasco. No change to this AD is necessary.

Change Made to This AD

Paragraph (f)(1) of this AD has been reworded to comply with the Office of the Federal Register's guidelines for material incorporated by reference.

Conclusion

After careful review of the available data, including the comments noted above, we have determined that air safety and the public interest require the adoption of the rule with the change previously described.

Cost Impact

There are approximately 70 airplanes of U.S. registry that will be affected by this AD.

The actions that are currently required by AD 2001-24-10 take approximately 2 work hours per airplane to accomplish, at an average labor rate of $65 per work hour. Based on these figures, the cost impact of the previously required actions on U.S. operators is estimated to be $9,100, or $130 per airplane, per inspection cycle.

Should an operator rework a MLG per Part 1 of Fokker Service Bulletin SBF100-32-134, it will take approximately 44 work hours per airplane at an average labor rate of $65 per work hour. Based on these figures, the cost impact of the modification is estimated to be $2,860 per airplane.

Should an operator do the inspections specified in Messier-Dowty Service Bulletin F100-32-102, it will take approximately 2 work hours per airplane at an average labor rate of $65 per work hour. Based on these figures, the cost impact of the inspections is estimated to be $130 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12527 (66 FR 63159, December 5, 2001), and by adding a new airworthiness directive (AD), amendment 39-13710, to read as follows:

2004-14-01 Fokker Services B.V.: Amendment 39-13710. Docket 2003-NM-162-AD. Supersedes AD 2001-24-10, Amendment 39-12527.

Applicability: Model F.28 Mark 0070 and 0100 series airplanes, certificated in any category, equipped with a Messier-Dowty main landing gear (MLG) unit having a part number (P/N) with a main fitting sub-assembly, as listed in Table 1 of this AD.

Table 1.—Applicability
P/N— | Which includes a Main fitting sub-assembly P/N—
201072011 | 201072283, 201072284, or 201251258 (main fitting P/N 201072383, 201072384, or 201072389).
201072012 | 201072283, 201072284, or 201251258 (main fitting P/N 201072383, 201072384, or 201072389).
201072013 | 201072283, 201072284, or 201251258 (main fitting P/N 201072383, 201072384, or 201072389).
201072014 | 201072283, 201072284, or 201251258 (main fitting P/N 201072383, 201072384, or 201072389).
201072015 | 201072283, 201072284, or 201251258 (main fitting P/N 201072383, 201072384, or 201072389).
201072016 | 201072283, 201072284, or 201251258 (main fitting P/N 201072383, 201072384, or 201072389).

Compliance: Required as indicated, unless accomplished previously.

To detect forging defects of the MLG main fittings, which could lead to cracking and result in significant structural damage to the airplane and possible injury to the occupants, accomplish the following:

Restatement of the Requirements of AD 2001-24-10

Initial and Repetitive Inspections

(a) For Fokker Model F.28 Mark 0100 series airplanes: Before the accumulation of 1,000 total landings on a new MLG, or within 30 days after December 20, 2001 (the effective date of AD 2001-24-10, amendment 39-12527), whichever occurs later, do an initial eddy current inspection on all MLG main fittings to detect forging defects, per Messier-Dowty Service Bulletin No. F100-32-101, including Appendices A and B, dated October 25, 2001. After accomplishment of the initial inspection, repeat the eddy current inspection thereafter at intervals not to exceed 500 landings or 6 months, whichever occurs first, per the service bulletin. Accomplishment of the actions required by paragraph (f) of this AD terminates the repetitive inspections. Although this service bulletin specifies to submit certain information to the part manufacturer, this AD does not include such a requirement.

Rework

(b) For Fokker Model F.28 Mark 0100 series airplanes: After any inspection required by paragraph (a) of this AD, before further flight, accomplish the applicable actions required by paragraph (b)(1) or (b)(2) of this AD.

(1) If any cracking is found within the limits specified in Messier-Dowty Service Bulletin No. F100-32-101, including Appendices A and B, dated October 25, 2001: Rework the MLG main fitting per the service bulletin.

(2) If any cracking is found that exceeds the limits specified in Messier-Dowty Service Bulletin No. F100-32-101, including Appendices A and B, dated October 25, 2001: Rework the MLG main fitting per a method approved by the Manager, International Branch, ANM-116, Transport Airplane Directorate, FAA; or the Civil Aviation Authority—The Netherlands (CAA-NL) (or its delegated agent).

Exception to Service Information

(c) During any action required by this AD, if the service bulletin specifies to contact Messier-Dowty for an appropriate action: Before further flight, repair per a method approved by the Manager, International Branch, ANM-116; or the CAA-NL (or its delegated agent).

New Actions Required by This AD

Initial and Repetitive Inspections

(d) For Fokker Model F.28 Mark 0070 series airplanes: Before the accumulation of 1,000 total landings on a new MLG, or within 30 days after the effective date of this AD, whichever occurs later, do an initial eddy current inspection on all MLG main fittings to detect forging defects, per Messier-Dowty Service Bulletin No. F100-32-101, including Appendices A and B, dated October 25, 2001. After accomplishment of the initial inspection, repeat the inspection thereafter at intervals not to exceed 500 landings or 6 months, whichever occurs first, per the service bulletin. Accomplishment of the actions required by paragraph (f) of this AD terminates the repetitive inspections.

Rework

(e) For Fokker Model F.28 Mark 0070 series airplanes: After any inspection required by paragraph (d) of this AD, before further flight, accomplish the applicable actions required by paragraph (e)(1) or (e)(2) of this AD.

(1) If any cracking is found within the limits specified in Messier-Dowty Service Bulletin No. F100-32-101, including Appendices A and B, dated October 25, 2001: Rework the MLG main fitting per the service bulletin.

(2) If any cracking is found that exceeds the limits specified in Messier-Dowty Service Bulletin No. F100-32-101, including Appendices A and B, dated October 25, 2001: Rework the MLG main fitting per a method approved by the Manager, International Branch, ANM-116; or the CAA-NL (or its delegated agent).

Terminating Actions

(f) For all airplanes: Before the accumulation of 16,000 total landings on a new MLG, do the actions in paragraph (f)(1) or (f)(2) of this AD. Accomplishment of paragraph (f)(1) or (f)(2) of this AD constitutes terminating action for the repetitive inspections required by paragraphs (a) and (d) of this AD.

(1) Replace the main fitting of the MLG with a main fitting that has had a detailed inspection to detect forging defects and has been reworked, per paragraph 2.B., Part 1, of the Accomplishment Instructions of Fokker Service Bulletin SBF100-32-134, dated March 24, 2003. Any discrepancy found during the detailed inspection must be repaired before further flight per a method approved by the Manager, International Branch, ANM-116; or the CAA-NL (or its delegated agent). Accomplishment of the applicable actions in the Fokker 100 Aircraft Maintenance Manual and Messier-Dowty Component Maintenance Manual, Chapter 32-11-04, is one approved method.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Fokker Service Bulletin SBF100-32-134, dated March 24, 2003, references Messier-Dowty Service Bulletin F100-32-102, including Appendices A, B, and C, dated February 24, 2003, as an additional source of service information for reworking the main fitting of each MLG.

(2) Do eddy current and etch penetrant inspections, as applicable, to detect forging defects; and rework the main fitting of each MLG, as applicable; by accomplishing all of the actions in paragraph 3.C. of the Accomplishment Instructions of Messier-Dowty Service Bulletin F100-32-102, including Appendices A, B, and C, dated February 24, 2003. Do all of the actions per the service bulletin. Any rework must be done before further flight.

Parts Installation

(g) As of the effective date of this AD, no person may install a MLG, MLG main fitting sub-assembly, or MLG main fitting having a P/N listed in Messier-Dowty Service Bulletin F100-32-102, including Appendices A, B, and C, dated February 24, 2003, on any airplane unless the part has been inspected and reworked, as applicable, per that service bulletin.

Alternative Methods of Compliance

(h) In accordance with 14 CFR 39.19, the Manager, International Branch, ANM-116, is authorized to approve alternative methods of compliance for this AD.

Incorporation by Reference

(i) Unless otherwise specified in this AD, the actions shall be done in accordance with Fokker Service Bulletin SBF100-32-134, dated March 24, 2003; Messier-Dowty Service Bulletin No. F100-32-101, including Appendices A and B, dated October 25, 2001; and Messier-Dowty Service Bulletin F100-32-102, including Appendices A, B, and C, dated February 24, 2003; as applicable.

(1) The incorporation by reference of Fokker Service Bulletin SBF100-32-134, dated March 24, 2003; and Messier-Dowty Service Bulletin F100-32-102, including Appendices A, B, and C, dated February 24, 2003; is approved by the Director of the Federal Register in accordance with 5 U.S.C. 552(a) and 1 CFR part 51.

(2) The incorporation by reference of Messier-Dowty Service Bulletin No. F100-32-101, including Appendices A and B, dated October 25, 2001, was approved previously by the Director of the Federal Register as of December 20, 2001 (66 FR 63159, December 5, 2001).

(3) Copies may be obtained from Fokker Services B.V., P.O. Box 231, 2150 AE Nieuw-Vennep, the Netherlands. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in Dutch airworthiness directive 2003-040, dated March 31, 2003.

Effective Date

(j) This amendment becomes effective on August 13, 2004.

Issued in Renton, Washington, on June 24, 2004.
Ali Bahrami,
Manager, Transport Airplane Directorate, Aircraft Certification Service.

[FR Doc. 04-15368 Filed 7-8-04; 8:45 am]

BILLING CODE 4910-13-P